DEPARTMENT OF ENERGY

Federal Energy Regulatory Commission

[Project No. 1121-082]

Pacific Gas and Electric Company; Notice of Application for Amendment of License, Soliciting Comments, Motions To Intervene and Protests

August 13, 2008.

Take notice that the following hydroelectric application has been filed with the Commission and is available for public inspection:

a. Type of Application: Amendment of license.

b. Project No.: 1121-082.

c. Date Filed: July 21, 2008.

d. Applicant: Pacific Gas and Electric Company.

e. Name of Project: Battle Creek Hydroelectric Project.

f. Location: On Battle Creek, the North Fork and South Fork Battle Creek in Shasta and Tehama Counties, California.

g. Filed Pursuant to: Federal Power Act, 16 U.S.C. 791a-825r.

h. Applicant Contact: Liv K. Imset, Senior License Coordinator, Pacific Gas and Electric Company, P.O. Box No. 770000, San Francisco, CA 94177; (415) 973-1066.

i. FERC Contact: CarLisa Linton-Peters, telephone (202) 502-8416; e-mail: carlisa.linton-peters@ferc.gov.

j. Deadline for filing comments, motions to intervene and protest is September 30, 2008.

Please include the project number (P-1121) on any comments or motions filed. All documents (an original and eight copies) must be filed with: Kimberly D. Bose, Secretary, Federal Energy Regulatory Commission, 888 First Street, NE., Washington, DC 20426.

Motions to intervene, protests, comments and recommendations may be filed electronically via the Internet in lieu of paper filings, see 18 CFR 385.2001 (a)(1)(iii) and the instructions on the Commission's Web site (http://www.ferc.gov) under the “e-filing” link. The Commission strongly encourages electronic filings.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Pacific Gas and Electric Company (licensee) is requesting that its license for the Battle Creek Hydroelectric Project be amended to support the Battle Creek Salmon and Steelhead Restoration Project (Restoration Project). The Chinook salmon and steelhead are federally-listed species. The Restoration Project is a collaborative effort to restore fish habitat on Battle Creek and some of its tributaries through modification of the project facilities and operations, including instream flow releases. This collaborative effort is between PG&E, the U.S. Department of the Interior, Bureau of Reclamation, the U.S. Fish and Wildlife Service, the National Oceanic and Atmospheric Administration, National Marine Fisheries Service, and the California Department of Fish and Game.

The Restoration Project will reestablish approximately 42 miles total of prime salmon and steelhead habitat in the North and South Forks of Battle Creek, plus an additional six miles of habitat on the tributaries of Battle Creek. The Restoration Project will be accomplished in three phases. The licensee is filing this license amendment application for approval and implementation of Phase 1A of the Restoration Project. Proposed work for Phase 1A includes fish passage improvements on North Fork Battle Creek by: (1) Installing fish screens and ladders at the North Battle Creek Feeder and Eagle Canyon Diversion Dams; (2) installing the 4,500-foot long Eagle Canyon Canal pipeline; (3) removing the Wildcat Diversion Dam and appurtenant conveyance systems; and (4) modifying the Asbury Diversion Dam by installing an upstream fish migration barrier and changing maintenance procedures to eliminate use of the low-level outlet.

The licensee has submitted the Battle Creek Salmon and Steelhead Restoration Project Final Environmental Impact Statement/Environmental Impact Report (EIS/EIR), prepared in July 2005, as part of its application. The referenced EIS/EIR was a collaborative effort to fulfill National Environmental Policy Act (NEPA) and California Environmental Quality Act requirements. The EIS/EIR was a collaborative effort between PG&E, the Bureau of Reclamation, California State Water Resources Control Board, California Bay-Delta Authority, and the Federal Energy Regulatory Commission (Commission). The Commission intends to use the 2005 EIS/EIR to meet the NEPA requirements under the proposed action to amend the Battle Creek Project. The EIS/EIR was previously public noticed on July 29, 2005 and the document is available for review at the Restoration Projects Web site (link: http://www.usbr.gov/mp/nepa/nepa_projdetails.cfm?Project_ID=99).

l. Location of the Application: A copy of the licensee's filing is available for inspection and reproduction at the Commission's Public Reference Room, located at 888 First Street, NE, Room 2A, Washington, DC 20426, or by calling (202) 502-8371. This filing may also be viewed on the Commission's Web site at http://ferc.gov using the “eLibrary” link. Enter the docket number excluding the last three digits in the docket number field to access the document. You may also register online at http://www.ferc.gov/docsfiling/esubscription.asp to be notified via e-mail of new filings and issuances related to this or other pending projects. For assistance, call toll-free at 1-866-208-3372 or e-mail ferconlinesupport@ferc.gov, or for TTY, call (202) 502-8659. A copy is also available for inspection and reproduction at the address listed in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application (see item (j) above).

o. Any filing must bear in all capital letters the title “COMMENTS”, “PROTEST”, “MOTION TO INTERVENE”, or “RECOMMENDATIONS”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Nathaniel J. Davis, Sr.,
Deputy Secretary.

[FR Doc. E8-19207 Filed 8-19-08; 8:45 am]

BILLING CODE 6717-01-P